DEPARTMENT OF DEFENSE

National Security Agency/Central Security Service; Privacy Act of 1974; System of Records

AGENCY: National Security Agency/Central Security Service, DoD.

ACTION: Notice to alter a system of records.

SUMMARY: The National Security Agency/Central Security Service is proposing to alter a system of records notice in its existing inventory of record systems subject to the Privacy Act of 1974, (5 U.S.C. 552a), as amended.

DATES: This proposed action would be effective without further notice on February 4, 2002 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The proposed system report, as required by 5 U.S.C. 552a(r) of the Privacy Act of 1974, as amended, was submitted on December 19, 2001, to the House Committee on Government Reform, the Senate Committee on Governmental Affairs, and the Office of Management and Budget (OMB) pursuant to paragraph 4c of Appendix I to OMB Circular No. A-130, ‘Federal Agency Responsibilities for Maintaining Records About Individuals,' dated February 8, 1996 (February 20, 1996, 61 FR 6427).

Dated: December 21, 2001.
Patricia L. Toppings,
Alternate OSD Federal Register Liaison Officer, Department of Defense.

GNSA 18

System name:

NSA/CSS Operations Files (February 22, 1993, 58 FR 10531).

Changes:

* * * * *

System name:

Delete ‘NSA/CSS' from entry.

Categories of individuals covered by the system:

Delete entry and replace with ‘Individuals identified in foreign intelligence, counterintelligence, or information system security reports, and supportive materials, including individuals involved in matters of foreign intelligence interest, information systems security interest, the compromise of classified information, or terrorism.'

Categories of records in the system:

Add to entry ‘information systems security analysis and reporting.'

Authority for maintenance of the system:

Add to entry ‘National Security Directive 42.'

Purpose(s):

Add to entry ‘and information systems security.'

Routine uses of records maintained in the system, including categories of users and the purposes of such uses:

Add to second paragraph ‘information systems security information.'

* * * * *

Retrievability:

Delete entry and replace with ‘Information is retrieved by individual's name, Social Security Number, or identification number.'

* * * * *

Exemptions claimed for the system:

Delete the first paragraph and replace with ‘Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of the information, the individual will be provided access to the information exempt to the extent that disclosure would reveal the identity of a confidential source. NOTE: When claimed, this exemption allows limited protection of investigative reports maintained in a system of records used in personnel or administrative actions.

Investigatory material complied solely for the purpose of determining suitability, eligibility, or qualifications for federal civilian employment, military service, federal contracts, or access to classified information may be exempt pursuant to 5 U.S.C. 552a(k)(5), but only to the extent that such material would reveal the identity of a confidential source.'

* * * * *

GNSA 18

System name:

Operations Files.

System location:

National Security Agency/Central Security Service, Ft. George G. Meade, MD 20755-6000.

Categories of individuals covered by the system:

Individuals identified in foreign intelligence, counterintelligence, or information system security reports and supportive materials, including individuals involved in matters of foreign intelligence interest, information systems security interest, the compromise of classified information, or terrorism.

Categories of records in the system:

Records include administrative information; biographic information; intelligence requirements, analysis, and reporting; information systems security analysis and reporting; operational records; articles, public-source data, and other published information on individuals and events of interest to NSA/CSS; actual or purported compromises of classified intelligence; countermeasures in connection therewith; and identification of classified source documents and distribution thereof. Authority for maintenance of the system: National Security Act of 1947, as amended, 50 U.S.C. 403-3(d)(2); National Security Agency Act of 1959, Pub. L. 86-36, as amended, 50 U.S.C. 402 Note; E.O. 12333; E.O. 12958; E.O. 9397 (SSN); and National Security Directive 42.

Purpose(s):

To maintain records on foreign intelligence, counterintelligence, and information systems security matters relating to the mission of the National Security Agency.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To U.S. Government agencies, and in some instances foreign government agencies or their representatives, to provide foreign intelligence, counterintelligence, information systems security information, and other information.

To U.S. Government officials regarding compromises of classified information including the document(s) apparently compromised, implications of disclosure of intelligence sources and methods, investigative data on compromises, and statistical and substantive analysis of the data.

To any U.S. Government organization in order to facilitate any security, employment, detail, liaison, or contractual decision by any U.S. Government organization.

Records may further be disclosed to agencies involved in the protection of intelligence sources and methods to facilitate such protection and to support intelligence analysis and reporting.

The DoD ‘Blanket Routine Uses’ set forth at the beginning of the NSA/CSS' compilation of systems of records notices apply to this system.

Policies and practices for storing, retrieving, accessing, retaining, and disposing of records in the system:

Storage:

Magnetic tape, disk or other computer storage media, computer listings and databases, paper in file folders, audio recordings, microfilm or microfiche.

Retrievability:

Information is retrieved by individual's name, Social Security Number, or identification number.

Safeguards:

For paper, computer printouts, audio recordings, and microfilm secure limited access facilities, within those facilities secure limited access rooms, and within those rooms lockable containers. Access to information is limited to those individuals specifically authorized and granted access by NSA/CSS regulations. For records on the computer system, access is controlled by passwords or physical protection and limited to authorized personnel only.

Retention and disposal:

Records are reviewed for retention on a scheduled basis every 120 days to 5 years. Evidential, informational, and historical data are archived as permanent records. All other records are destroyed.

System manager(s) and address:

Director, National Security Agency/Central Security Service, Ft. George G. Meade, MD 20755-6000.

Notification procedure:

Individuals seeking to determine whether information about themselves is contained in this system should address written inquiries to the Chief, Office of Policy, National Security Agency/Central Security Service, Ft. George G. Meade, MD 20755-6000.

Record access procedures:

Individuals seeking access to information about themselves contained in this system should address written inquiries to the Chief, Office of Policy, National Security Agency/Central Security Service, Ft. George G. Meade, MD 20755-6000.

Contesting record procedures:

The NSA/CSS rules for contesting contents and appealing initial determinations are published at 32 CFR part 322 or may be obtained by written request addressed to the Chief, Office of Policy, National Security Agency/Central Security Service, Ft. George G. Meade, MD 20755-6000.

Record source categories:

Individuals themselves; U.S. agencies and organizations; media, including periodicals, newspapers, and broadcast transcripts; public and classified reporting, intelligence source documents, investigative reports, and correspondence. Exemptions claimed for the system:

Information specifically authorized to be classified under E.O. 12958, as implemented by DoD 5200.1-R, may be exempt pursuant to 5 U.S.C. 552a(k)(1).

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be entitled, as a result of the maintenance of the information, the individual will be provided access to the information exempt to the extent that disclosure would reveal the identify of a confidential source.

Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

An exemption rule for this record system has been promulgated according to the requirements of 5 U.S.C. 553(b)(1), (2), and (3), (c) and (e) and published in 32 CFR part 322. For additional information contact the system manager.

[FR Doc. 02-31 Filed 1-2-02; 8:45 am]

BILLING CODE 5001-08-M